DEPARTMENT OF TRANSPORTATION

Federal Aviation Administration

14 CFR Part 39

[Docket No. 2000-NE-48-AD; Amendment 39-13107; AD 2003-07-11]

RIN 2120-AA64

Airworthiness Directives; Rolls-Royce Deutschland Ltd & Co KG Models BR700-710A1-10 and BR700-710A2-20 Turbofan Engines; Correction

AGENCY: Federal Aviation Administration, DOT.

ACTION: Final rule; correction.

SUMMARY: This document makes corrections to Airworthiness Directive (AD) 2003-07-11. That AD applies to Rolls-Royce Deutschland Ltd & Co KG (RRD) (formerly Rolls-Royce Deutschland GmbH, formerly BMW Rolls-Royce GmbH) models BR700-710A1-10 and BR700-710A2-20 turbofan engines. That AD was published in the Federal Register on April 11, 2003 (68 FR 17727). Subsequently, two correction documents were published in the Federal Register, on April 23, 2003 (68 FR19944) and May 9, 2003 (68 FR 24861) that made corrections to the compliance section. This document corrects incomplete RRD Service Bulletin (SB) number references in 14 locations of the compliance section. In all other respects, the original document, with the corrections published on April 23, 2003 and May 9, 2003, remains the same.

EFFECTIVE DATE: Effective May 20, 2004.

FOR FURTHER INFORMATION CONTACT: Jason Yang, Aerospace Engineer, Engine Certification Office, FAA, Engine and Propeller Directorate, 12 New England Executive Park, Burlington, MA 01803-5299; telephone (781) 238-7747; fax (781) 238-7199.

SUPPLEMENTARY INFORMATION: A final rule AD, FR Doc. 03-8327, that applies to RRD models BR700-710A1-10 and BR700-710A2-20 turbofan engines, was published in the Federal Register on April 11, 2003 (68 FR 17727). The following corrections are needed:

PART 39—[AMENDED]

§ 39.13 [Corrected]

On page 17728, in the third column, in paragraph (a)(1), “SB-BR700-900229” is corrected to read “SB-BR700-72-900229” in two locations.

On page 17729, in the first column, in paragraphs (a)(2), (a)(3), (b)(1) through (b)(3), and (c)(1), “SB-BR700-900229” is corrected to read “SB-BR700-72-900229” in nine locations.

On page 17729, in the second column, in paragraphs (c)(2), (f), and (h), “SB-BR700-900229” is corrected to read “SB-BR700-72-900229” in three locations.

Issued in Burlington, MA, on May 13, 2004.
Peter A. White,
Acting Manager, Engine and Propeller Directorate, Aircraft Certification Service.

[FR Doc. 04-11407 Filed 5-19-04; 8:45 am]

BILLING CODE 4910-13-P